DEPARTMENT OF ENERGY

Federal Energy Regulatory Commission

[Docket No. RP98-52-042]

Williams Gas Pipelines Central, Inc., Notice of Filing

June 7, 2001.

Take notice that on May 31, 2001, Williams Gas Pipelines Central, Inc. (Williams) tendered for filing a proposed refund plan for the distribution of Kansas ad valorem taxes pursuant to the Commission's October 11, 2000, Order Approving Settlement, and the December 13, 2000, Order Granting Clarification. Williams states that since it does not have sufficient information at a working interest owner level to determine the ad valorem taxes and related interest for each applicable year of the refund period (1984 through 1988), it is proposing to calculate the jurisdictional portion of the refunds based on the jurisdictional percentage for the entire period.

Any person desiring to be heard or to protest this filing should file a motion to intervene or protest with the Federal Energy Regulatory Commission, 888 First Street, NE., Washington, DC 20426, in accordance with sections 385.211 and 384.214 of the Commission's Rules of Practices and Procedures. All such motions and comments must be filed on or before June 21, 2001. Protests will be considered by the Commission in determining the appropriate action to be taken, but will not serve to make protestants parties to the proceedings. Any person wishing to become a party must file a motion to intervene. Copies of this filing are on file with the Commission and are available for public inspection in the Public Reference Room. This filing may also be viewed on the web at http://www.ferc.fed.us/online/rims.htm (call 202-208-2222 for assistance). Comments, protests, and interventions may be filed electronically via the Internet in lieu of paper (see 18 CFR 385.2001(a)(1)(iii) and the instructions on the Commission's web site at http://www.ferc.fed.us/efi/doorbell.htm. Applicant's designated contact person is Gary W. Boyle at 918-573-2359.

David P. Boergers,
Secretary.

[FR Doc. 01-14853 Filed 6-12-01; 8:45 am]

BILLING CODE 6717-01-M